NATIONAL AERONAUTICS AND SPACE ADMINISTRATION

[Notice (08-068)]

Government-Owned Inventions, Available for Licensing

AGENCY: National Aeronautics and Space Administration.

ACTION: Notice of Availability of Inventions for Licensing.

SUMMARY: Patent applications on the inventions listed below assigned to the National Aeronautics and Space Administration, have been filed in the United States Patent and Trademark Office, and are available for licensing.

DATES: October 9, 2008.

FOR FURTHER INFORMATION CONTACT: James J. McGroary, Patent Counsel, Marshall Space Flight Center, Mail Code LS01, Huntsville, AL 35812; telephone (256) 544-0013; fax (256) 544-0258.

NASA Case No. MFS-32333-1: Ultra Thin Protective Layer by Chemical Conversion for Vacuum Ultra-Violet Optics Applications;

NASA Case No. MFS-32369-1: Method for Determining Lightning Charges Using Electric Field Mill and VHF Channel Mapping Date;

NASA Case No. MFS-32429-1: Orbital Fabrication of Aluminum Foam and Apparatus Therefore;

NASA Case No. MFS-32280-1: Multi-Functional Layered Structure Having Structural and Radiation Shielding Attributes.

Dated: October 3, 2008.
Michael C. Wholley,
General Counsel.

[FR Doc. E8-24056 Filed 10-8-08; 8:45 am]

BILLING CODE 7510-13-P